DEPARTMENT OF COMMERCE

National Oceanic and Atmospheric Administration

50 CFR Part 600

[Docket No. 030128024-3024-01; I.D. 121002A]

RIN 0648-AQ63

Fisheries of the United States; National Standard 1

AGENCY: National Marine Fisheries Service (NMFS), National Oceanic and Atmospheric Administration (NOAA), Commerce.

ACTION: Advance notice of proposed rulemaking; consideration of revision to national standard 1 guidelines; extension of comment period.

SUMMARY: NMFS extends the public comment period on an advanced notice of proposed rulemaking that announces that the agency is considering revisions to the national standard guidelines for national standard 1 that specify criteria for determining overfishing and establishing rebuilding schedules. Because the scientific community, fisheries managers, the fishing industry, and environmental groups expressed concern about the appropriateness of some aspects of national standard 1 guidelines, particularly in light of new issues arising from rebuilding programs that have been underway for several years, this action solicits public input on the effectiveness and appropriateness of the these guidelines in complying with the requirements of the Magnuson-Stevens Fishery Conservation and Management Act (Magnuson-Stevens Act).

DATES: Comment period is extended from March 17, 2003, to April 16, 2003.

ADDRESSES: Comments may be mailed to Mr. John H. Dunnigan, Director, Office of Sustainable Fisheries, Room 13362, 1315 East-West Highway, Silver Spring, MD 20910; or faxed to 301-713-1193. Comments will not be accepted if submitted via e-mail or Internet.

FOR FURTHER INFORMATION CONTACT: Mark R. Millikin, at 301-713-2341 or via e-mail at Mark.Millikin@noaa.gov.

SUPPLEMENTARY INFORMATION: The preamble of the advance notice of proposed rulemaking (ANPR)(68 FR 7492, February 14, 2003) is republished here in its entirety for the convenience of the public. This action extends the public comment period of the ANPR another 30 days, from March 17, 2003, to April 16, 2003.

National standard 1 reads, “Conservation and management measures shall prevent overfishing while achieving, on a continuing basis, the optimum yield from each fishery for the United States fishing industry.” In 1996, the Sustainable Fisheries Act (SFA) amended the Magnuson-Stevens Act (16 U.S.C. 1801, et seq.) to, among other things, provide definitions for “overfishing” and modify the definition of “optimum yield.” The Magnuson-Stevens Act, in section 303(a)(10), now requires each fishery management plan (FMP) to “specify objective and measurable criteria for identifying when the fishery to which the FMP applies is overfished.” In addition, section 304(e) specifies requirements for rebuilding overfished fisheries. The revised national standard guidelines, including national standard 1, were proposed at 62 FR 41907, August 4, 1997, and published as final guidelines at 63 FR 24212, May 1, 1998.

As they currently exist, the national standard 1 guidelines provide definitions and require determination, to the extent possible, of maximum sustainable yield (MSY), or an acceptable surrogate; specification of status determination criteria including a maximum fishing mortality threshold and a minimum stock size threshold; ending overfishing and rebuilding overfished stocks; and specification of optimum yield (OY) in fisheries.

In response to the SFA, these national standard guidelines were implemented in 1998, over 5 years ago. Since that time, we have developed new perspectives, new issues, and new problems regarding their application. Concerns that have been identified for possible revision include, but are not limited to, the following:

1. The definition and use of the minimum stock size threshold (MSST) for determining when a stock is overfished. There has been considerable discussion about the utility of the concept of MSST, the definition of MSST contained in the guidelines, difficulties in estimating the MSST (especially in data-poor situations), and identifying appropriate proxies for MSST.

2. Calculation of rebuilding targets appropriate to the prevailing environmental regime. Currently, the guidelines do not address how rebuilding targets should accommodate changing environmental conditions. Rebuilding rates based upon current stock productivity may be inconsistent with rebuilding targets based upon historical stock productivity when there are persistent, long-term changes in environmental conditions.

3. Calculation of maximum permissible rebuilding times for overfished fisheries. The SFA established a maximum allowable 10-year rebuilding time for a fishery, except where the biology of the fish will not allow it or the fishery is managed under an international agreement. If the minimum time for a fishery to rebuild is 10 years or greater, the maximum allowable rebuilding time under the guidelines becomes the time to rebuild in the absence of any fishing mortality, plus one mean generation time. This has created a discontinuity where the difference in allowable rebuilding times between a stock with a minimum rebuilding time of 9 years and another stock with a minimum rebuilding time of 11 years, may be several decades in the case of long-lived species. This results in the need for much more restrictive management measures in the first case compared to the second, even though there is not much difference between them in terms of rebuilding potential.

4. The definitions of overfishing as they relate to a fishery as a whole or a stock of fish within that fishery. There are currently over 900 fish stocks identified for the purpose of determining their status with regard to overfishing, many of which are caught in small amounts and whose status is unknown. Combining assessments and status determination criteria for assemblages of minor stocks may make more sense biologically and economically than attempting to assess and manage them one by one. Further guidance is needed on the most ecologically sound and economically expedient ways to manage these fisheries.

5. Procedures to follow when rebuilding plans require revision after initiation, especially with regard to modification of the rebuilding time frame. The guidelines do not currently address what to do when observed rebuilding rates are greater or lower than expected or when new assessments change estimates of rebuilding targets or other parameters.

NMFS solicits input from the public regarding: (1) whether or not the national standard 1 guidelines should be revised and (2) if revisions are desired, what parts of the national standard 1 guidelines should be revised, how they should be revised, and why. NMFS will use the information in determining whether to proceed with a revision to the existing guidelines, and if so, the issues to be addressed.

The ANPR was published in the Federal Register on February 14, 2003 (68 FR 7492). The comment period for that action was scheduled to end on March 17, 2003. NMFS decided to extend the comment period for the ANPR for another 30 days to give the public additional time to review the national standard guidelines in 50 CFR part 600 as they pertain to national standard 1.

This advance notice of proposed rulemaking has been determined to be significant for the purposes of Executive Order 12866.

Authority: 16 U.S.C. 1801 et seq.

Dated: February 25, 2003.
Rebecca Lent,
Deputy Assistant Administrator for Regulatory Programs, National Marine Fisheries Service.

[FR Doc. 03-4886 Filed 2-26-03; 2:55 pm]

BILLING CODE 3510-22-S